DEPARTMENT OF TRANSPORTATION

Pipeline and Hazardous Materials Safety Administration

49 CFR Part 192

[Docket No. RSPA-03-15852; Amdt. Nos. 192-99, 195-83]

RIN 2137-AD96

Pipeline Safety: Pipeline Operator Public Awareness Program

AGENCY: Pipeline and Hazardous Materials Safety Administration (PHMSA), U.S. Department of Transportation (DOT).

ACTION: Final rule; correction.

SUMMARY: PHMSA is correcting a Final Rule published in the Federal Register on May 19, 2005 (70 FR 28833). That Final Rule amended requirements for pipeline operators in 49 CFR parts 192 and 195 to develop and implement public awareness programs and incorporated by reference the guidelines of the American Petroleum Institute (API) Recommended Practice (RP) 1162. The document was assigned the amendment numbers 192-100 and 195-84, which were already assigned to different amendments. This document corrects the amendment numbers, and corrects the language amending part 192 so that it is consistent with part 195.

DATES: Effective June 20, 2005.

FOR FURTHER INFORMATION CONTACT: Blaine Keener by phone at 202-366-0970, by mail at 400 7th St. SW., Room 2103, Washington, DC 20590, or by e-mail at blaine.keener@dot.gov.

SUPPLEMENTARY INFORMATION: On May 19, 2005, PHMSA published a Final Rule in the Federal Register entitled “Pipeline Safety: Pipeline Operator Public Awareness Program” (70 FR 28833) under amendment numbers 192-100 and 195-84. PHMSA discovered that a rule published on March 3, 2005 entitled “Pipeline Safety: Operator Qualifications; Statutory Changes” had been assigned unsequential amendment numbers and already existed as amendments 192-100 and 195-84. Since the existing amendment numbers are already in use, this document corrects the amendment numbers for the Final Rule “Pipeline Safety: Operator Public Awareness Program” to reflect correct numbering as 192-99 and 195-83.

The Operator Public Awareness Program Final Rule incorporated by reference API RP 1162 into 49 CFR parts 192 and 195. After the rule's publication, PHMSA received a request to clarify the difference between the requirements in 195.440 (c) and 192.616 (c). The comment identified a language inconsistency requiring operators to “follow the general program recommendations of API RP 1162” in part 192, while part 195 specified that the operator “must follow the general program recommendations, including baseline and supplemental requirements of API RP 1162”.

PHMSA intended the amending language in parts 192 and 195 to be consistent. The language used in part 192 should match the language in part 195, which clarifies that the operator must follow both baseline and supplemental requirements of API RP 1162. In consideration of the foregoing, PHMSA corrects 49 CFR part 192 by making the following correcting amendments:

List of Subjects in 49 CFR Part 192

Pipeline safety and Reporting and recordkeeping requirements.

PART 192—TRANSPORTATION OF NATURAL AND OTHER GAS BY PIPELINE: MINIMUM FEDERAL SAFETY STANDARDS

1. The authority citation for part 192 continues to read as follows:

Authority: 49 U.S.C. 5103, 60102, 60104, 60108, 60109, 60110, 60113, 60116, and 60118; and 49 CFR 1.53.

2. Section 192.616 paragraph (c) is revised to read as follows:

§ 192.616 Public awareness.

* * * * *

(c) The operator must follow the general program recommendations, including baseline and supplemental requirements of API RP 1162, unless the operator provides justification in its program or procedural manual as to why compliance with all or certain provisions of the recommended practice is not practicable and not necessary for safety.

* * * * *

Issued in Washington, DC, on June 10, 2005.
Stacey L. Gerard,
Acting Assistant Administrator/Chief Safety Officer.

[FR Doc. 05-11865 Filed 6-15-05; 8:45 am]

BILLING CODE 4910-60-P